COMMITTEE FOR PURCHASE FROM PEOPLE WHO ARE BLIND OR SEVERELY DISABLED

Procurement Lists; Proposed Additions and Deletions

AGENCY: Committee for Purchase From People Who Are Blind or Severely Disabled.

ACTION: Proposed additions to and deletions from Procurement List.

SUMMARY: The Committee has received proposals to add to the Procurement List commodities and services to be furnished by nonprofit agencies employing persons who are blind or have other severe disabilities, and to delete commodities previously furnished by such agencies.

COMMENTS MUST BE RECEIVED ON OR BEFORE: May 22, 2000.

ADDRESSES: Committee for Purchase From People Who Are Blind or Severely Disabled, Crystal Gateway 3, Suite 310, 1215 Jefferson Davis Highway, Arlington, Virginia 22202-4302.

FOR FURTHER INFORMATION CONTACT: Louis R. Bartalot (703) 603-7740.

SUPPLEMENTARY INFORMATION: This notice is published pursuant to 41 U.S.C. 47(a) (2) and 41 CFR 51-2.3. Its purpose is to provide interested persons an opportunity to submit comments on the possible impact of the proposed actions.

Additions

If the Committee approves the proposed additions, all entities of the Federal Government (except as otherwise indicated) will be required to procure the commodities and services listed below from nonprofit agencies employing persons who are blind or have other severe disabilities.

I certify that the following action will not have a significant impact on a substantial number of small entities. The major factors considered for this certification were:

1. The action will not result in any additional reporting, recordkeeping or other compliance requirements for small entities other than the small organizations that will furnish the commodities and services to the Government.

2. The action will result in authorizing small entities to furnish the commodities and services to the Government.

3. There are no known regulatory alternatives which would accomplish the objectives of the Javits-Wagner-O'Day Act (41 U.S.C. 46-48c) in connection with the commodities and services proposed for addition to the Procurement List. Comments on this certification are invited. Commenters should identify the statement(s) underlying the certification on which they are providing additional information.

The following commodities and services have been proposed for addition to Procurement List for production by the nonprofit agencies listed:

Commodities

Computer Accessories

6150-00-NIB-0005 (Surge Protectors)

6150-00-NIB-0006 (Surge Protectors)

7045-00-NIB-0052 (CD Jewel Cases)

7045-00-NIB-0053 (Computer Maintenance Products)

7045-00-NIB-0056 (Computer Maintenance Products)

7045-00-NIB-0057 (Computer Maintenance Products)

7045-00-NIB-0076 (Keyboard Drawers)

7045-00-NIB-0077 (Anti-Glare Screens)

7045-00-NIB-0103 (CD Jewel Cases)

7045-00-NIB-0104 (CD Jewel Cases)

7045-00-NIB-0105 (Keyboard Drawers)

7045-00-NIB-0106 (Keyboard Drawers)

7045-00-NIB-0107 (Computer Maintenance Products)

7045-00-NIB-0108 (Computer Maintenance Products)

7045-00-NIB-0111 (Anti-Glare Screens)

7045-00-NIB-0112 (Anti-Glare Screens)

7045-00-NIB-0113 (Computer Maintenance Products)

7045-00-NIB-0121 (Desktop Media Storage)

7045-00-NIB-0123 (Desktop Media Storage)

7045-00-NIB-0124 (Desktop Media Storage)

7045-00-NIB-0125 (Desktop Media Storage)

7045-00-NIB-0126 (Desktop Media Storage)

7045-00-NIB-0129 (Desktop Media Storage)

7045-00-NIB-0131 (Desktop Media Storage)

NPA: Wiscraft Inc.—Wisconsin Enterprises for the Blind, Milwaukee, Wisconsin

Electronic Components

7420-00-NIB-0014 (Palm-Sized Portfolio w/Calculator)

7420-00-NIB-0015 (9″ x 12″ Portfolio w/Calculator)

7420-00-NIB-0016 (Flip-Up Calculator)

7420-00-NIB-0017 (10-Digit Calculator)

7420-00-NIB-0018 (12-Digit Calculator)

7420-00-NIB-0019 (Mouse Pad w/Calculator)

7420-00-NIB-0020 (Mouse Pad w/Calculator/Disk Holder)

7420-00-NIB-0021 (Clipboard w/Calculator)

NPA: Industries for the Blind, Inc., Milwaukee, Wisconsin

Protector and Sleeve Transparencies

7510-00-NIB-0176 (Protector, Transparency, Flip-Frame)

7510-00-NIB-0177 (Protector, Transparency, Flip-Frame w/Pre-View)

7510-00-NIB-0178 (Sleeve, Transparency)

NPA: Industries of the Blind, Inc., Greensboro, North Carolina

Services

Janitorial/Custodial, Indiana Air National Guard, Hulman International Airport, Terre Haute, Indiana

NPA: Child-Adult Resource Services, Inc., Rockville, Indiana

Janitorial/Custodial, Naval and Marine Corps Reserve Center, 1620 East Saginaw Street, Lansing, Michigan

NPA: Peckham Vocational Industries, Inc., Lansing, Michigan

Laundry Service, Veterans Affairs Medical Center, 800 Zorn Avenue, Louisville, Kentucky

NPA: C. G. M. Services, Inc., Louisville, Kentucky

Deletions

I certify that the following action will not have a significant impact on a substantial number of small entities. The major factors considered for this certification were:

1. The action will not result in any additional reporting, recordkeeping or other compliance requirements for small entities.

2. The action will result in authorizing small entities to furnish the commodities to the Government.

3. There are no known regulatory alternatives which would accomplish the objectives of the Javits-Wagner-O'Day Act (41 U.S.C. 46-48c) in connection with the commodities proposed for deletion from the Procurement List.

The following commodities have been proposed for deletion from the Procurement List:

Ink, Marking Stencil, Opaque

7510-00-183-7697

7510-00-183-7698

Disinfectant-Detergent, General Purpose

7930-01-393-6753

Enamel

8010-01-331-6120

Louis R. Bartalot,
Deputy Director (Operations).

[FR Doc. 00-9998 Filed 4-20-00; 8:45 am]

BILLING CODE 6353-01-P